DEPARTMENT OF COMMERCE

International Trade Administration

[A-583-853]

Crystalline Silicon Photovoltaic Products, Whether or Not Assembled Into Modules, From Taiwan: Preliminary Results of Changed Circumstances Review, and Intent To Revoke the Antidumping Order, in Part

AGENCY: Enforcement and Compliance, International Trade Administration, Department of Commerce.

SUMMARY: The U.S. Department of Commerce (Commerce) preliminarily intends to revoke, in part, the antidumping duty (AD) order on crystalline silicon photovoltaic products, whether or not assembled into modules (solar products), from Taiwan with respect to certain small, low-wattage, off-grid certain small, low-wattage, off-grid (CSPV) cells as described below. Interested parties are invited to comment on these preliminary results.

DATES: Applicable April 23, 2025.

FOR FURTHER INFORMATION CONTACT: Samantha Biondo, Office of Policy, Enforcement and Compliance, International Trade Administration, U.S. Department of Commerce, 1401 Constitution Avenue NW, Washington, DC 20230; telephone: (202) 482-6358.

SUPPLEMENTARY INFORMATION:

Background

On February 18, 2015, Commerce published the AD order on solar products from Taiwan.¹ On August 28, 2024, Lutron Electronics Co., Inc. (Lutron), a domestic producer, importer and exporter of subject merchandise, requested that Commerce conduct a changed circumstances review (CCR) to find that it is appropriate to revoke the Order, in part, with respect to certain small, low-wattage, off-grid certain small, low-wattage, off-grid (CSPV) cells pursuant to section 751(b)(1) of the Tariff Act of 1930, as amended (the Act), and 19 CFR 351.216(b).² Lutron's CCR request included a letter from the American Alliance for Solar Manufacturing (the Alliance), a domestic interested party in this proceeding, which stated that the Alliance did not oppose the partial revocation of the Order proposed by Lutron.³ No interested parties filed comments opposing the CCR request.

¹ See Certain Crystalline Silicon Photovoltaic Products from Taiwan: Antidumping Duty Order, 80 FR 8596 (February 18, 2015) (Order).

² See Lutron's Letter, “Lutron Electronics Co., Inc.'s Request for Changed Circumstances Reviews and Request to Combine Initiation and Preliminary Results,” dated August 28, 2024 (CCR Request).

³ Id. at Exhibits 2 and 3.

On October 21, 2024, we published the notice of initiation of the requested CCR.⁴ In the Initiation Notice, we invited interested parties to provide comments and/or factual information regarding the CCR, including comments on industry support and the proposed partial revocation language.⁵ We received no comments or factual information.

⁴ See Crystalline Silicon Photovoltaic Products, Whether or Not Assembled into Modules, from the People's Republic of Taiwan: Notice of Initiation of Changed Circumstances Review, and Consideration of Revocation of the Antidumping Order in Part, 89 FR 84118 (October 21, 2024) (Initiation Notice).

⁵ Id., 89 FR at 84118.

Scope of the Order

The merchandise covered by the Order is crystalline silicon photovoltaic cells, and modules, laminates, and/or panels, consisting of crystalline silicon photovoltaic cells, whether or not partially or fully assembled into other products, including building integrated materials.

Subject merchandise includes crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell.

Modules, laminates, and panels produced in a third-country from cells produced in Taiwan are covered by the Order. However, modules, laminates, and panels produced in Taiwan from cells produced in a third-country are not covered by the Order.

Excluded from the scope of the Order are thin film photovoltaic products produced from amorphous silicon (a-Si), cadmium telluride (CdTe), or copper indium gallium selenide (CIGS). Also excluded from the scope of the Order are crystalline silicon photovoltaic cells, not exceeding 10,000mm² in surface area, that are permanently integrated into a consumer good whose function is other than power generation and that consumes the electricity generated by the integrated crystalline silicon photovoltaic cells. Where more than one cell is permanently integrated into a consumer good, the surface area for purposes of this exclusion shall be the total combined surface area of all cells that are integrated into the consumer good.

Further, also excluded from the scope of the Order are any products covered by the existing antidumping and countervailing duty orders on crystalline silicon photovoltaic cells, whether or not assembled into modules, from the People's Republic of China (PRC).⁶

⁶ See Crystalline Silicon Photovoltaic Cells, Whether or Not Assembled Into Modules, from the People's Republic of China: Amended Final Determination of Sales at Less Than Fair Value, and Antidumping Duty Order, 77 FR 73018 (December 7, 2012); see also Crystalline Silicon Photovoltaic Cells, Whether or Not Assembled Into Modules, from the People's Republic of China: Countervailing Duty Order, 77 FR 73017 (December 7, 2012).

Also excluded from the scope of the Order are modules, laminates, and panels produced in the PRC from crystalline silicon photovoltaic cells produced in Taiwan that are covered by an existing proceeding on such modules, laminates, and panels from the PRC.

Additionally, excluded from the scope of the Order are solar panels that are: (1) less than 300,000mm² in surface area; (2) less than 27.1 watts in power; (3) coated across their entire surface with a polyurethane doming resin; and (4) joined to a battery charging and maintaining unit (which is an acrylonitrile butadiene styrene (ABS) box that incorporates a light emitting diode (LED) by coated wires that include a connector to permit the incorporation of an extension cable. The battery charging and maintaining unit utilizes high-frequency triangular pulse waveforms designed to maintain and extend the life of batteries through the reduction of lead sulfate crystals. The above-described battery charging and maintaining unit is currently available under the registered trademark “SolarPulse.”

Merchandise covered by the Order is currently classified in the Harmonized Tariff System of the United States (HTSUS) under subheadings 8501.61.0000, 8507.20.8030, 8507.20.8040, 8507.20.8060, 8507.20.8090, 8541.40.6020, 8541.40.6030, and 8501.31.8000. These HTSUS subheadings are provided for convenience and customs purposes; the written description of the scope of the Order is dispositive.⁷

⁷ See Order.

Scope of the CCR

The products subject to the proposed revocation are certain small, low-wattage, off-grid CSPV cells that are permanently attached to an aluminum extrusion that controls natural light, whether or not assembled into a fully completed automation device that controls natural light.⁸ Lutron requests that the following language be added to the scope of the Order to implement the requested revocation:

⁸ See Initiation Notice, 89 FR at 84119.

Also excluded from the scope of these investigations are off-grid CSPV panels in rigid form, with or without a glass cover, permanently attached to an aluminum extrusion that is an integral component of an automation device that controls natural light, whether or not assembled into a fully completed automation device that controls natural light, with the following characteristics:

1. A total power output of 20 watts or less per panel;

2. A maximum surface area of 1,000 cm² per panel;

3. Does not include a built-in inverter for powering third party devices.⁹

⁹ See CCR Request at Exhibit 1.

Preliminary Results of CCRs and Intent To Revoke the Order, in Part

Pursuant to section 751(d)(1) of the Act, and 19 CFR 351.222(g), Commerce may revoke an AD or CVD order, in whole or in part, based on a review under section 751(b) of the Act (i.e., a CCR). Section 751(b)(1) of the Act requires a CCR to be conducted upon receipt of a request which shows changed circumstances sufficient to warrant a review. Section 782(h)(2) of the Act gives Commerce the authority to revoke an order if producers accounting for substantially all of the production of the domestic like product have expressed a lack of interest in the order. Section 351.222(g) of Commerce's regulations provides that Commerce will conduct a CCR of an AD or CVD order under 19 CFR 351.216, and may revoke an order (in whole or in part), if it concludes that: (i) producers accounting for substantially all of the production of the domestic like product to which the order pertains have expressed a lack of interest in the relief provided by the order, in whole or in part; or (ii) if other changed circumstances sufficient to warrant revocation exist. Thus, both the Act and Commerce's regulations require that “substantially all” domestic producers express a lack of interest in the order for Commerce to revoke the order, in whole or in part.¹⁰ In its administrative practice, Commerce has interpreted “substantially all” to represent producers accounting for at least 85 percent of U.S. production of the domestic like product.¹¹

¹⁰ See section 782(h) of the Act; and 19 CFR 351.222(g).

¹¹ See, e.g., Honey from Argentina; Antidumping and Countervailing Duty Changed Circumstances Reviews; Preliminary Intent to Revoke Antidumping and Countervailing Duty Orders, 77 FR 67790, 67791 (November 14, 2012), unchanged in Honey from Argentina; Final Results of Antidumping and Countervailing Duty Changed Circumstances Reviews; Revocation of Antidumping and Countervailing Duty Orders, 77 FR 77029 (December 31, 2012).

Lutron submitted a letter from the Alliance, a coalition of U.S. producers of the domestic like product, which stated that the Alliance did not oppose the partial revocation of the Order proposed by Lutron.¹² In that letter, the Alliance did not indicate its share of production of the domestic like product.¹³ Thus, Commerce was unable to determine, at the time that it initiated this CCR, whether producers accounting for substantially all of the U.S. production of the domestic like product lacked interest in the Order with respect to certain small, low-wattage, off-grid CSPV cells. As a result, Commerce did not issue a combined notice of initiation and preliminary results in this CCR.¹⁴ Instead, as stated above, in the Initiation Notice, Commerce invited interested parties to provide comments and/or factual information regarding the CCR, including comments on industry support and the proposed partial revocation language. No party submitted comments. Accordingly, we find that the domestic industry has expressed no opposition with respect to the proposed revocation, in part, of the Order.

¹² See CCR Request at Exhibit 2.

¹³ Id.

¹⁴ See Initiation Notice.

In light of the Alliance's statement of lack of interest in maintaining the Order with respect to certain small, low-wattage, off-grid CSPV cells described by Lutron, and in the absence of any other interested party comments addressing the issue of domestic industry support, we preliminarily conclude that producers accounting for substantially all of the production of the domestic like product to which the Order pertain lack interest in the relief provided by the Order with respect to certain small, low-wattage, off-grid CSPV cells that are the subject of Lutron's CCR request. Thus, we preliminarily determine that changed circumstances warrant revocation of the Order, in part, with respect to certain small, low-wattage, off-grid CSPV cells that are the subject of Lutron's CCR request. Accordingly, we are notifying the public of our intent to revoke the Order, in part, with respect to certain small, low-wattage, off-grid CSPV cells described in the “Scope of the CCR” section above.

If we make a final determination to revoke the Order, in part, then Commerce will apply this determination to the order as follows. Because we have completed administrative reviews of the Order, the partial revocation will be retroactively applied to unliquidated entries of merchandise subject to the CCR that were entered or withdrawn from warehouse, for consumption, on or after the day following the last day of the period covered by the most recently completed administrative reviews of the Order, and which are not covered by automatic liquidation.

Public Comment

In accordance with 19 CFR 351.309(c)(1)(ii), interested parties may submit case briefs no later than 30 days after the date of publication of this notice. Rebuttal briefs, limited to issues raised in case briefs, may be filed no later than five days after the case briefs, in accordance with 19 CFR 351.309(d).¹⁵

¹⁵ See 19 CFR 351.309(d); see also Administrative Protective Order, Service, and Other Procedures in Antidumping and Countervailing Duty Proceedings, 88 FR 67069, 67077 (September 29, 2023) (APO and Service Final Rule).

Interested parties who submit case or rebuttal briefs must submit: (1) a table of contents listing each issue discussed in the brief; and (2) a table of authorities.¹⁶ As provided under 19 CFR 351.309(c)(2) and (d)(2), in prior proceedings we have encouraged interested parties to provide an executive summary of their brief that should be limited to five pages total, including footnotes. Further, we request that interested parties limit their executive summary of each issue to no more than 450 words, not including citations. We intend to use the executive summaries as the basis of the comment summaries included in the issues and decision memorandum that will accompany the final results in this review. We request that interested parties include footnotes for relevant citations in the executive summary of each issue.

¹⁶ See 19 CFR 351.309(c)(2) and (d)(2).

Pursuant to 19 CFR 351.310(c), interested parties who wish to request a hearing, limited to issues raised in the case and rebuttal briefs, must submit a written request to the Assistant Secretary for Enforcement and Compliance, filed electronically via ACCESS, within 30 days of publication of this notice. Requests should contain the following information: (1) the party's name, address, and telephone number; (2) the number of participants and whether any participant is a foreign national; and (3) a list of issues to be discussed. If a request for a hearing is made, Commerce will inform parties of the date and time for the hearing.

All submissions are to be filed electronically using ACCESS. An electronically filed document must be received successfully in its entirety by ACCESS by 5:00 p.m. Eastern Time on the day it is due.¹⁷ Note that Commerce has amended certain of its requirements pertaining to the service of documents in 19 CFR 351.303(f).¹⁸

¹⁷ See 19 CFR 351.303(b).

¹⁸ See APO and Final Service Rule.

Final Results of the CCR

Commerce will issue the final results of the CCR, which will include its analysis of any written comments, no later than 270 days after the date on which these reviews were initiated.¹⁹ If, in the final results of these reviews, Commerce continues to determine that changed circumstances warrant the revocation of the Order, in part, we will instruct U.S. Customs and Border Protection (CBP) to liquidate without regard to ADs, and to refund any estimated ADs deposited on all unliquidated entries of the merchandise covered by the revocation that are not covered by the final results of an administrative review or an automatic liquidation instruction to CBP. The current requirement for cash deposits of estimated ADs on all entries of subject merchandise will continue unless they are modified pursuant to the final results of the changed CCR.

¹⁹ See 19 CFR 351.216(e).

Notification to Interested Parties

These preliminary results of these reviews and this notice are published in accordance with sections 751(b) and 777(i) of the Act, and 19 CFR 351.216, 19 CFR 351.221(c)(3), and 19 CFR 351.222.

Dated: April 16, 2025.
Christopher Abbott,
Deputy Assistant Secretary for Policy and Negotiations, performing the non-exclusive functions and duties of the Assistant Secretary for Enforcement and Compliance.

[FR Doc. 2025-06932 Filed 4-22-25; 8:45 am]

BILLING CODE 3510-DS-P